SOCIAL SECURITY ADMINISTRATION

20 CFR Part 404

[Docket No. SSA-2013-0040]

RIN 0960-AH62

Extension of Expiration Date for Mental Disorders Body System Listings; Correction

AGENCY: Social Security Administration.

ACTION: Final rule; correction.

SUMMARY: In the Federal Register of December 3, 2013, we published a final rule document extending the expiration date of the Mental Disorders body system in the Listing of Impairments (listings) in our regulations. We inadvertently stated the RIN incorrectly as 0960-AH49. This document corrects the RIN to 0960-AH62.

DATES: Effective on December 9, 2013.

FOR FURTHER INFORMATION CONTACT: William P. Gibson, Office of Regulations and Reports Clearance, Social Security Administration, 6401 Security Boulevard, Baltimore, MD 21235-6401, (410) 966-9039. For information on eligibility or filing for benefits, call our national toll-free number, 1-800-772-1213, or TTY 1-800-325-0778, or visit our Internet site, Social Security Online, at http://www.socialsecurity.gov.

SUPPLEMENTARY INFORMATION: We published a final rule document in the Federal Register of December 3, 2013, (78 FR 72571) extending the expiration date of the Mental Disorders body system in the Listing of Impairments (listings) in our regulations. In this final rule, we incorrectly stated the RIN as 0960-AH49. This correction changes the RIN to 0960-AH62.

In FR Doc. 2013-28836 appearing on page 72571 in the Federal Register of Tuesday, December 3, 2013, the following correction is made:

On page 72571, in the second column, the RIN is corrected to read “0960-AH62”.

Paul Kryglik,
Director, Office of Regulations and Reports Clearance.

[FR Doc. 2013-29264 Filed 12-6-13; 8:45 am]

BILLING CODE 4191-02-P